COMMISSION ON CIVIL RIGHTS

Notice of Public Meeting of the Arizona Advisory Committee

AGENCY: U.S. Commission on Civil Rights.

ACTION: Announcement of a Virtual Business Meeting.

SUMMARY: Notice is hereby given, pursuant to the provisions of the rules and regulations of the U.S. Commission on Civil Rights (Commission) and the Federal Advisory Committee Act (FACA) that the Arizona Advisory Committee (Committee) to the Commission will hold a virtual business meeting via ZoomGov on Friday, November 4, 2022, from 11:00 a.m. to 12:30 p.m. Arizona Time, for the purpose of discussing their project proposal draft.

DATES: The meeting will take place on:

• Friday, November 4, 2022, from 11:00 a.m.-12:30 p.m. Arizona Time.

ADDRESSES:

Access Information:

Link to Join (Audio/Visual) https://tinyurl.com/mr2cycdf.

Telephone (Audio Only) Dial +1-(551) 285-1373; Meeting ID: 161 809 7593#.

FOR FURTHER INFORMATION CONTACT: Kayla Fajota, DFO, at kfajota@usccr.gov or (434) 515-2395.

SUPPLEMENTARY INFORMATION: Persons with hearing impairments may also follow the proceedings by first calling the Federal Relay Service at 1-800-877-8339 and providing the Service with the conference call number and conference ID number.

Members of the public are entitled to make comments during the open period at the end of the meeting. Members of the public may also submit written comments; the comments must be received in the Regional Programs Unit within 30 days following the meeting. Written comments may be mailed to the Western Regional Office, U.S. Commission on Civil Rights, 300 North Los Angeles Street, Suite 2010, Los Angeles, CA 90012 or email Kayla Fajota (DFO) at kfajota@usccr.gov.

Records and documents discussed during the meeting will be available for public viewing prior to and after the meetings at https://www.facadatabase.gov/FACA/FACAPublicViewCommitteeDetails?id=a10t0000001gzl2AAAA. Please click on the “Committee Meetings” tab. Records generated from these meetings may also be inspected and reproduced at the Regional Programs Unit, as they become available, both before and after the meetings. Persons interested in the work of this Committee are directed to the Commission's website, https://www.usccr.gov, or may contact the Regional Programs Unit at the above email or street address.

Agenda

I. Welcome and Roll Call

II. Announcements and Updates

III. Approval of October 7, 2022, Meeting Minutes

IV. Discussion: Project Proposal Draft

V. Next Steps

VI. Public Comment

VII. Adjournment

Exceptional Circumstance: Pursuant to 41 CFR 102-3.150, the notice for this meeting is given fewer than 15 calendar days prior to the meeting because of the exceptional circumstances of staffing shortage.

Dated: October 20, 2022.
David Mussatt,
Supervisory Chief, Regional Programs Unit.

[FR Doc. 2022-23256 Filed 10-25-22; 8:45 am]

BILLING CODE P